DEPARTMENT OF JUSTICE

Antitrust Division

Notice Pursuant to the National Cooperative Research and Production Act of 1933—Optical Internetworking Forum

Notice is hereby given that, on April 5, 2004, pursuant to Section 6(a) of the National Cooperative Research and Production Act of 1993, 15 U.S.C. 4301 et seq. (“the Act”), Optical Internetworking Forum has filed written notifications simultaneously with the Attorney General and the Federal Trade Commission disclosing changes in its membership status. The notifications were filed for the purpose of extending the Act's provisions limiting the recovery of antitrust plaintiffs to actual damages under specified circumstances. Specifically, Cray, Chippewa Falls, WI; FiberHome Telecommunications, Wuhan, People's Republic of China; Maxim Integrated Products, Sunnyvale, CA; Acuid, Midlothian, United Kingdom; Azna, Wilmington, MA; Mitretek, Falls Church, VA; Pontusys, Pasadena, CA; and Wavecrest, Eden Prairie, MN have been added as parties to this venture. Also, Innovance, Ottawa, Ontario, Canada; and US Conec, Hickory, NC have been dropped as parties to this venture. Synopsys, Mountain View, CA acquired Accelerant Networks, Beaverton, OR.

No other changes have been made in either the membership or planned activity of the group research project. Membership in this group research project remains open, and Optical Internetworking Forum intends to file additional written notification disclosing all changes in membership.

On October 5, 1998, Optical Internetworking Forum filed its original notification pursuant to Section 6(a) of the Act. The Department of Justice published a notice in the Federal Register pursuant to Section 6(b) of the Act on January 29, 1999 (64 FR 4709).

The last notification was filed with the Department on October 14, 2003. A notice was published in the Federal Register pursuant to Section 6(b) of the Act on November 12, 2003 (68 FR 64125).

Dorothy Fountain,
Deputy Director of Operations, Antitrust Division.

[FR Doc. 04-10002 Filed 4-30-04; 8:45 am]

BILLING CODE 4410-11-M